DEPARTMENT OF HEALTH AND HUMAN SERVICES

Administration for Children and Families

Submission for OMB Review; Pre-testing Administration for Children and Families Data Collection Activities (Office of Management and Budget #: 0970-0355)

AGENCY: Administration for Children and Families, U.S. Department of Health and Human Services.

ACTION: Request for public comments.

SUMMARY: The Administration for Children and Families (ACF) proposes revisions to the existing overarching generic clearance for Pre-testing of ACF Data Collection Activities (Previously titled Pre-testing of Evaluation Data Collection Activities; Office of Management and Budget (OMB) #0970-0355). Revisions are proposed to broaden the scope of the generic to include pretesting of data elements used on information collections that are not specifically for research and evaluation. This includes updates to the title of the request, overarching description, and burden estimates. We are also requesting an extension for currently approved information collections under this generic.

DATES: Comments due September 25, 2024. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: ACF intends to request approval from OMB for an extension with revisions for a generic clearance to pre-test data collections with more than nine participants to identify and resolve any questions or problems that may arise, and to assess potential data quality, prior to full-scale administration.

This generic is available for use by ACF program offices but is most often used by the ACF Office of Planning, Research, and Evaluation (OPRE). OPRE studies ACF programs and the populations they serve, through rigorous research and evaluation projects. These include evaluations of existing programs, evaluations of innovative approaches to helping low-income children and families, research syntheses, and descriptive and exploratory studies.

ACF program offices could benefit from use of this pretesting generic for similar purposes outlined above, as well as to inform the development of data collection activities such as grant recipient forms, forms used by programs on ACF's behalf, and other data collection efforts driven by ACF. This could be used to inform a variety of data collection efforts in ACF to allow for consistent data requests across program offices that are high quality and appropriate to respondents who represent ACF program populations. For example, ACF envisions using this mechanism to pre-test sexual orientation and gender identity questions with youth. This is an area with minimal research and would benefit ACF program offices that serve youth. Program offices are also considering use of this generic for efforts to support language access for data collections, which a priority as detailed in Executive Order 13166, “Improving Access to Services for Persons with Limited English Proficiency.”

To improve the development of its data collection activities, ACF will use the pre-testing generic clearance to employ a variety of techniques including cognitive and usability laboratory and field techniques, behavior coding, exploratory interviews, respondent debriefing questionnaires, split sample experiments, focus groups, and pilot studies/pre-tests. These activities allow ACF to identify if and when a data collection may be simplified for respondents, respondent burden may be reduced, data elements could be improved, and other possible improvements.

Following standard OMB requirements, ACF will submit directly to OMB, a request specific to each individual proposed data collection activity under this generic clearance. Each request will include the individual instrument(s), a justification specific to the individual information collection, and any supplementary documents. ACF requests OMB review within 10 days of receiving an individual request.

Results of these methodological studies may be made public through methodological appendices or footnotes, reports on instrument development, instrument user guides, descriptions of respondent behavior, and other publications or presentations describing findings of methodological interest. The results of these pre-testing activities may be prepared for presentation at professional meetings or publication in professional journals. When necessary, results will be labeled as exploratory in nature and any limitations will be described.

Respondents: Participants in ACF programs being evaluated; participants in ACF demonstrations; recipients of ACF grants and individuals served by ACF grant recipients; comparison group members; and other relevant populations, such as individuals at risk of needing ACF services.

Annual Burden Estimates

Burden estimates have been updated to reflect the broadened scope from primarily used by OPRE for research and evaluation to include ACF program office pretesting of data elements used on information collections that are not specifically for research and evaluation. Estimates have been informed by program office input and are consistent with estimates for other ACF-wide umbrella generics (for example, OMB #s 0970-0531 and 0970-0630).

Instrument or activity type | Number of respondents (total over request period) | Number of responses per respondent (total over request period) | Avg. burden per response (in hours) | Total burden (in hours)
Interviews/Focus Groups/Cognitive Testing/Debriefings | 10,000 | 1.5 | 1.5 | 22,500
Questionnaires/Surveys | 6,500 | 1.5 | .5 | 4,875
Iterative Testing | 1,500 | 5 | .75 | 5,625
Usability Tests | 5,000 | 5 | .25 | 6,250
Totals | 23,000 |  |  | 39,250

This request will also include a request to extend approval for the following currently approved information collections. For more information, see https://www.reginfo.gov/public/do/PRAICList?ref_nbr=202403-0970-019.

Title of approved collection | Number of respondents (total over request period) | Total burden (in hours)
Measuring Self- and Co-Regulation in Sexual Risk Avoidance Education Programs Phase 1 | 450 | 153
Supporting and Strengthening the Home Visiting Workforce (SAS-HV): Testing and Validation of a Draft Measure of Reflective Supervision for Home Visiting | 785 | 809.6
Measuring Self- and Co-Regulation in Sexual Risk Avoidance Education Programs Part 2 | 700 | 220
Totals | 1,935 | 1,182.6

Authority: Social Security Act, Sec. 1110 [42 U.S.C. 1310].

Mary C. Jones,
ACF/OPRE Certifying Officer.

[FR Doc. 2024-19084 Filed 8-23-24; 8:45 am]

BILLING CODE 4184-88-P